DEPARTMENT OF DEFENSE

Department of the Army

[Docket ID: USA-2016-HQ-0005]

Submission for OMB Review; Comment Request

ACTION: Notice.

SUMMARY: The Department of Defense has submitted to OMB for clearance, the following proposal for collection of information under the provisions of the Paperwork Reduction Act.

DATES: Consideration will be given to all comments received by May 22, 2017.

FOR FURTHER INFORMATION CONTACT: Fred Licari, 571-372-0493.

SUPPLEMENTARY INFORMATION: Title, Associated Form and OMB Number: Core Competencies for Amputee Rehabilitation; OMB Control Number 0702-XXXX.

Type of Request: New.

Number of Respondents: 400.

Responses per Respondent: 1.

Annual Responses: 400.

Average Burden per Response: 1 hour.

Annual Burden Hours: 400 hours.

Needs and Uses: At the onset of OEF/OIF/OND, few military rehabilitation personnel were prepared to provide the complex care required for service members with amputation(s). Since then, providers have developed extensive skill sets to meet the multifaceted needs of these patients. In identifying core competencies required, DoA can sustain and grow the highest-quality delivery and clinical skills needed to inform the way care is delivered, foster rapid skill attainment, maintain mastery of amputee treatment technologies, and influence ongoing institutional training.

Affected Public: Business or other for profit; Not-for-profit institutions.

Frequency: On occasion.

Respondent's Obligation: Voluntary.

OMB Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 03F09, Alexandria, VA 22350-3100.

Dated: April 14, 2017.
Aaron Siegel,
Alternate OSD Federal Register Liaison Officer, Department of Defense.

[FR Doc. 2017-07943 Filed 4-19-17; 8:45 am]

BILLING CODE 5001-06-P